DEPARTMENT OF ENERGY

Federal Energy Regulatory Commission

[Project No. 3063-021]

Blackstone Hydro Associates; Notice of Application Tendered for Filing With the Commission and Soliciting Additional Study Requests and Establishing Procedural Schedule for Relicensing and a Deadline for Submission of Final Amendments

Take notice that the following hydroelectric application has been filed with the Commission and is available for public inspection.

a. Type of Application: Subsequent Minor License.

b. Project No.: 3063-021.

c. Date filed: July 31, 2019.

d. Applicant: Blackstone Hydro Associates (BHA).

e. Name of Project: Central Falls Hydroelectric Project.

f. Location: On the Blackstone River, in the City of Central Falls, Providence County, Rhode Island. No federal lands are occupied by the project works or located within the project boundary.

g. Filed Pursuant to: Federal Power Act 16 U.S.C. 791a-825r.

h. Applicant Contact: Mr. Robert Leahy, 130 Prospect Street, Cambridge, MA 02139; Phone at (617) 491-2320, or email at rleahy@theshorelinecorp.com.

i. FERC Contact: Patrick Crile, (202) 502-8042 or patrick.crile@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See 94 FERC 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: September 29, 2019.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-3063-021.

m. The application is not ready for environmental analysis at this time.

n. The existing Central Falls Project consists of: (1) A 190-foot-long, 24-foot-high, curved granite-masonry dam (Valley Falls Dam); (2) an approximately 64.5-acre impoundment with a normal maximum elevation of 49.5 feet National Geodetic Vertical Datum of 1929 (NGVD 1929); (3) a granite block and wood-framed gatehouse that is integral with the dam's right abutment and contains ten 9-foot-wide, 6-foot-tall gates in five gate openings; (4) a 290-foot-long, granite block-lined headrace; (5) an intake structure with two 8-foot-high hydraulic gates and 24-foot-wide, 11.5-foot-high, inclined trashracks having 3-inch clear bar spacing; (6) two 30-foot-long, 7-foot-diameter penstocks; (7) an approximately 53-foot-long, 32-foot-wide concrete powerhouse containing two Allis-Chalmers tube turbines with a total installed capacity of 700 kilowatts (kW); (6) an approximately 1,200-foot-long, 36-foot-wide tailrace; (7) two 4.16 kilovolt (kV) generator leads; (8) a 150-foot-long, 4.16 kV transmission line; and (8) appurtenant facilities.

BHA operates the project as a run-of-river facility, such that outflow from the project approximates inflow. The project bypasses approximately 1,500 feet of the Blackstone River. A 108-cubic feet per second (cfs) minimum flow is released over the dam into the bypassed reach. BHA discharges a continuous minimum flow of 238 cfs, or inflow, whichever is less, as measured at the confluence of the tailrace and the river channel. The average annual generation of the project is approximately 1,230 megawatt-hours (MWh).

BHA proposes to: (1) Continue operating the project in a run-of-river mode; (2) retrofit the two existing turbines to increase the turbine operating ranges; (3) install a new bypassed flow pipe from the headrace to the toe of the dam to provide a minimum flow of 210 cfs to the bypassed reach; (4) install three new 38-kW Kaplan turbine-generator units in the proposed bypassed flow pipe; (5) install a new trashrack with 1-inch clear bar spacing in the headrace to prevent fish impingement and entrainment; (6) install a new downstream fish passage facility in the headrace, immediately upstream of the new trashrack; (7) maintain a 13-cfs aesthetic flow over the Valley Falls Dam; (8) provide a flow of up to 3 cfs to an adjacent canal; (9) install an eel passage facility at the project dam; and (10) install 20 long-eared bat boxes and implement a Northern Long Eared Bat Management and Protection Plan. BHA estimates the project enhancements will result in an average annual generation of approximately 3,200 MWh.

o. A copy of the application is available for review at the Commission in the Public Reference Room or may be viewed on the Commission's website at http://www.ferc.gov using the eLibrary link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. Procedural schedule and final amendments: The application will be processed according to the following preliminary schedule. Revisions to the schedule will be made as appropriate.

Issue Deficiency Letter (if necessary)—September 2019

Request Additional Information—September 2019

Issue Acceptance Letter—December 2019

Issue Scoping Document 1 for Comments—January 2020

Request Additional Information (if necessary)—February 2020

Issue Scoping Document 2—March 2020

Issue Notice of Ready for Environmental Analysis—March 2020

Issue Notice of Availability of Environmental Assessment—October 2020

Final amendments to the application must be filed with the Commission no later than 30 days from the issuance date of the notice of ready for environmental analysis.

Dated: August 14, 2019.
Kimberly D. Bose,
Secretary.

[FR Doc. 2019-17900 Filed 8-19-19; 8:45 am]

BILLING CODE 6717-01-P